NATIONAL SCIENCE FOUNDATION

Committee Management; Notice of Reestablishment

The Chief Operating Officer of the National Science Foundation has determined that the reestablishment of the Proposal Review Panel for International Science and Engineering is necessary and in the public interest in connection with the performance of the duties imposed upon the National Science Foundation (NSF) by 42 U.S.C. 1861 et seq. This determination follows consultation with the Committee Management Secretariat, General Services Administration.

Name OF Committee: Proposal Review Panel for International Science and Engineering (#10749)

1. Nature/Purpose: The International Science and Engineering proposal review panel will advise the National Science Foundation (NSF) on the merit of proposals requesting financial support of research and research-related activities. The Committee will review proposals submitted to NSF under the purview of the Office of International Science and Engineering Program (OISE).

Responsible NSF Official: Rebecca Keiser, Head, Office of International Science and Engineering, National Science Foundation, 4201 Wilson Boulevard, Stafford II, Suite 1155, Arlington, VA 22230. Telephone: 703/292-8710

Dated: June 18, 2015.
Crystal Robinson,
Committee Management Officer.

[FR Doc. 2015-15421 Filed 6-23-15; 8:45 am]

BILLING CODE 7555-01-P